DEPARTMENT OF JUSTICE

Notice of Lodging of Consent Decree Between the United States of America and Wainwright Industries, Inc. Under the Comprehensive Environmental Response, Compensation and Liability Act (CERCLA)

Under 28 CFR 50.7, notice is hereby given that on November 18, 2004, a proposed Consent Decree (“Consent Decree”) in the case of United States of America v. Wainwright Industries, Inc., Civil Action No. 02-CV-1548-SNL, was lodged with the United States District Court for the Eastern District of Missouri, Eastern Division.

The Consent Decree resolves the United States' claims under Section 107 of CERCLA, 42 U.S.C. 9607, against Wainwright Industries, Inc. for costs the Environmental Protection Agency incurred responding to contamination at the Valley Park TCE Site (“Site”), in St. Louis County. Under the Consent Decree, Wainwright Industries will pay $542,000 plus interest in two installments, plus future EPA oversight costs at its former property. The amount is based upon Wainwright Industries' certified inability to pay more. In exchange, Wainwright Industries will receive a covenant not to sue for past and future costs related to known contamination at the Site, and contribution protection, subject to standard reservations of rights. The covenant not to sue is conditioned upon Wainwright Industries' satisfactory completion of a cleanup at its former property, which is required by a prior consent decree with the State of Missouri.

The Department of Justice will receive comments relating to the Consent Decree for a period of thirty days from the date of this publication. Comments should be addressed to the Assistant Attorney General, Environment and Natural Resources Division, P.O. Box 7611, U.S. Department of Justice, Washington, DC 20044-7611, and should refer to United States v. Wainwright Industries, Inc., D.J. Reference No. 90-11-3-07637.

The Consent Decree may be examined at the office of the United States Attorney, 111 South 10th Street, Room 20.333, St. Louis, MO 63102 and at U.S. EPA Region 7, 901 N. 5th Street, Kansas City, KS 66101. During the comment period, the Consent Decree may be examined on the following Department of Justice Web Site: http://www.usdoj.gov/enrd/open.html. A copy of the Consent Decree may also be obtained by mail from the Consent Decree Library, P.O. Box 7611, U.S. Department of Justice, Washington DC 20044-7611, or by faxing or e-mailing a request to Tonia Fleetwood (tonia.fleetwood@usdoj.gov), fax no. (202) 514-0097, phone confirmation number (202) 514-1547. In requesting a copy from the Consent Decree Library, please enclose a check in the amount of $5.75 (25 cents per page reproduction cost) payable to the United States Treasury for payment.

Dated: November 22, 2004.
Robert E. Maher, Jr.,
Assistant Section Chief, Environmental Enforcement Section, Environment and Natural Resources Division.

[FR Doc. 04-26510 Filed 11-30-04; 8:45 am]

BILLING CODE 4410-15-M